DEPARTMENT OF HEALTH AND HUMAN SERVICES

Public Health Service

National Toxicology Program; Call for Public Comments on One Additional Substance Proposed for Listing in the Report on Carcinogens, Eleventh Edition

Additional Nomination Under Consideration

The National Toxicology Program (NTP) announces its intent to review one additional substance, 2-Amino-3,8-dimethylimidazo[4,5-f]quinoxaline (MeIQx), (Chemical Abstract Services Registry Number 77500-04-0) for possible listing in the Report on Carcinogens (RoC), Eleventh Edition that is scheduled for publication in 2004. This substance is added to the list of nominations under consideration for the Report on Carcinogens (RoC), Eleventh Edition that was announced previously in the Federal Register (July 24, 2001: Volume 66, Number 142, pages 38430-38432). Background information about the RoC, including the criteria for listing, is provided in that notice. A detailed description of the review procedures, including the steps in the formal review process, is available at http://ntp-server.niehs.nih.gov (see Report on Carcinogens) or can be obtained by contacting Dr. C. W. Jameson, Head of the Report on Carcinogens, at the address below.

MeIQx is a heterocyclic amine that is formed during heating or cooking of meat and fish. It was nominated by the National Institute of Environmental Health Sciences (NIEHS) based on the International Agency for Research on Cancer (IARC) finding of sufficient evidence of carcinogenicity of MeIQx in experimental animals (Vol. 56; 1993).

Public Comment Requested

The NTP invites public comment on this additional nomination, and asks for relevant information concerning carcinogenicity, as well as human exposure. The NTP also invites interested parties to identify any scientific issues related to the listing of this nomination in the RoC that they feel should be addressed during the reviews. Comments concerning this nomination for listing in the Eleventh RoC will be accepted through May 28, 2002. Individuals submitting public comments are asked to include relevant contact information [name, affiliation (if any), address, telephone, fax, and email]. Comments or questions should be directed to Dr. C.W. Jameson, National Toxicology Program, Report on Carcinogens, 79 Alexander Drive, Building 4401, Room 3118, PO Box 12233, Research Triangle Park, NC 27709; phone: (919) 541-4096, fax: (919) 541-0144, e-mail: jameson@niehs.nih.gov.

Dated: March 1, 2002.
Kenneth Olden,
Director, National Toxicology Program.

[FR Doc. 02-7401 Filed 3-27-02; 8:45 am]

BILLING CODE 4140-01-P